NUCLEAR REGULATORY COMMISSION

[NRC-2023-0001]

Sunshine Act Meetings

TIME AND DATE: Weeks of March 13, 20, 27, April 3, 10, 17, 2023. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public and closed.

Members of the public may request to receive the information in these notices electronically. If you would like to be added to the distribution, please contact the Nuclear Regulatory Commission, Office of the Secretary, Washington, DC 20555, at 301-415-1969, or by email at Wendy.Moore@nrc.gov or Tyesha.Bush@nrc.gov.

MATTERS TO BE CONSIDERED:

Week of March 13, 2023

Friday, March 17, 2023

10 a.m. Affirmation Session (Public Meeting) (Tentative). Susquehanna Nuclear, LLC (Susquehanna Steam Electric Station, Units 1 and 2)—Ruling on Eric Epstein's Petition to Intervene and Request for Hearing (Tentative). (Contact: Wesley Held: 301-287-3591)

Additional Information: The public is invited to attend the Commission's meeting live; via teleconference. Details for joining the teleconference in listen only mode can be found at https://www.nrc.gov/pmns/mtg.

There are no meetings scheduled for the week of March 13, 2023.

Week of March 20, 2023—Tentative

There are no meetings scheduled for the week of March 20, 2023.

Week of March 27, 2023—Tentative

Tuesday, March 28, 2023

10 a.m. Briefing on the Annual Threat Environment (Closed Ex. 1)

Thursday, March 30, 2023

9 a.m. Briefing on Nuclear Regulatory Research Program (Public Meeting). (Contact: Nicholas Difrancesco: 301-415-1115)

Additional Information: The meeting will be held in the Commissioners' Conference Room, 11555 Rockville Pike, Rockville, Maryland. The public is invited to attend the Commission's meeting in person or watch live via webcast at the Web address— https://video.nrc.gov/.

Week of April 3, 2023—Tentative

There are no meetings scheduled for the week of April 3, 2023.

Week of April 10, 2023—Tentative

There are no meetings scheduled for the week of April 10, 2023.

Week of April 17, 2023—Tentative

Thursday, April 20, 2023

9 a.m. Strategic Programmatic Overview of the Fuel Facilities and the Spent Fuel Storage and Transportation Business Lines (Public Meeting). (Contact: Kellee Jamerson: 301-415-7408)

Additional Information: The meeting will be held in the Commissioners' Conference Room, 11555 Rockville Pike, Rockville, Maryland. The public is invited to attend the Commission's meeting in person or watch live via webcast at the Web address— https://video.nrc.gov/.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: March 8, 2023.
For the Nuclear Regulatory Commission.
Wesley W. Held,
Policy Coordinator, Office of the Secretary.

[FR Doc. 2023-05104 Filed 3-8-23; 4:15 pm]

BILLING CODE 7590-01-P